DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of September 29, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Liberty County, Georgia and Incorporated Areas
Docket No.: FEMA-B-2137
City of Flemington | City Hall, 156 Old Sunbury Road, Flemington, GA 31313.
City of Hinesville | City Hall, 115 East Martin Luther King, Jr. Drive, Hinesville, GA 31313.
Unincorporated Areas of Liberty County | Liberty County Courthouse Annex, 112 North Main Street, Room 1200, Hinesville, GA 31313.
LaPorte County, Indiana and Incorporated Areas
Docket No.: FEMA-B-2025
City of Michigan City | City Hall, Planning and Redevelopment Department, 100 East Michigan Boulevard, Michigan City, IN 46360.
Town of Long Beach | Long Beach Town Hall, 2400 Oriole Trail, Long Beach, IN 46360.
Town of Michiana Shores | Town Hall, 601 El Portal Drive, Michiana Shores, IN 46360.
Town of Pottawattamie Park | Town of Pottawattamie Park Office, 100 Jack Pine Drive, Pottawattamie Park, IN 46360.
Town of Trail Creek | Trail Creek Town Hall, 211 Rainbow Trail, Trail Creek, IN 46360.
Unincorporated Areas of LaPorte County | County Government Complex, LaPorte County Plan Commission, 809 State Street, Suite 503A, LaPorte, IN 46350.
Porter County, Indiana and Incorporated Areas
Docket No.: FEMA-B-2019
City of Portage | Portage—City Hall, 6070 Central Avenue, Portage, IN 46368.
Town of Beverly Shores | Administration Building, 500 South Broadway, Beverly Shores, IN 46301.
Town of Burns Harbor | Town Hall, 1240 North Boo Road, Burns Harbor, IN 46304.
Town of Dune Acres | Administrative Office, Building Department, 1 East Road, Dune Acres, IN 46304.
Town of Ogden Dunes | Ogden Dunes Town Hall, 115 Hillcrest Road, Ogden Dunes, IN 46368.
Town of Porter | Porter Town Hall, Building & Development Department, 303 Franklin Street, Porter, IN 46304.
Unincorporated Areas of Porter County | Porter County, 155 Indiana Avenue, Suite 311, Valparaiso, IN 46383.
Clayton County, Iowa and Incorporated Areas
Docket No.: FEMA-B-2138
City of Elkader | City Hall, 207 North Main Street, Elkader, IA 52043.
Unincorporated Areas of Clayton County | Clayton County Courthouse, 111 High Street Northeast, Elkader, IA 52043.
Dickinson County, Iowa and Incorporated Areas
Docket No.: FEMA-B-2014 and B-2145
City of Arnolds Park | City Hall, 156 North Highway 71, Arnolds Park, IA 51331.
City of Lake Park | City Hall, 217 North Market Street, Lake Park, IA 51347.
City of Milford | City Hall, 806 North Avenue, Suite 1, Milford, IA 51351.
City of Okoboji | City Hall, 1322 Highway 71 North, Okoboji, IA 51355.
City of Orleans | Dickinson County Courthouse, 1802 Hill Avenue, Suite 2101, Spirit Lake, IA 51360.
City of Spirit Lake | City Hall, 1803 Hill Avenue, Spirit Lake, IA 51360.
City of Wahpeton | Wahpeton City Hall, 1201 Dakota Drive, Milford, IA 51351.
City of West Okoboji | West Okoboji City Hall, 501 Terrace Park Boulevard, Milford, IA 51351.
Unincorporated Areas of Dickinson County | Dickinson County Courthouse, 1802 Hill Avenue, Suite 2101, Spirit Lake, IA 51360.
Nemaha County, Kansas and Incorporated Areas
Docket No.: FEMA-B-2145
City of Centralia | City Hall, 517 4th Street, Centralia, KS 66415.
City of Goff | Nemaha County Courthouse, 607 Nemaha Street, Seneca, KS 66538.
City of Oneida | Nemaha County Courthouse, 607 Nemaha Street, Seneca, KS 66538.
City of Sabetha | City Hall, 805 Main Street, Sabetha, KS 66534.
City of Seneca | City Hall, 531 Main Street, Seneca, KS 66538.
City of Wetmore | City Hall, 335 2nd Street, Wetmore, KS 66550.
Unincorporated Areas of Nemaha County | Nemaha County Courthouse, 607 Nemaha Street, Seneca, KS 66538.

[FR Doc. 2022-13260 Filed 6-21-22; 8:45 am]

BILLING CODE 9110-12-P